DEPARTMENT OF COMMERCE

National Oceanic and Atmospheric Administration

[I.D. 020801C]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene public meetings of the Ad Hoc Charter Vessel/Headboat Advisory Panel (AP) on March 1, 2001, the Socioeconomic Panel (SEP) on March 2, 2001, and the Standing Scientific and Statistical Committee (SSC) on March 7, 2001.

DATES: The Ad Hoc Charter Vessel/Headboat AP will meet beginning at 8 a.m. on March 1, 2001. The SEP will meet beginning at 8:30 a.m. on March 2, 2001. The Standing SSC will meet beginning at 8 a.m. on March 7, 2001.

ADDRESSES: The meetings will be held at the Hilton Tampa Airport Hotel, 2225 Lois Avenue, Tampa, FL 33607; telephone: 813-877-6688.

Council address: Gulf of Mexico Fishery Management Council, 3018 U.S. Highway 301 North, Suite 1000, Tampa, FL 33619.

FOR FURTHER INFORMATION CONTACT: Mr. Wayne Swingle, Executive Director, Gulf of Mexico Fishery Management Council; telephone: 813-228-2815.

SUPPLEMENTARY INFORMATION: The Ad Hoc Charter Vessel/Headboat AP, SEP, and Standing SSC will meet to review the provisions of the Draft Amendment for a Charter Vessel/Headboat Permit Moratorium (Amendment) and provide recommendations to the Gulf of Mexico Fishery Management Council. The SSC will also review the recommendations of the SEP on the amendment provisions.

The amendment includes a large number of alternatives that address the following issues:

A. Duration of Moratorium and Alternatives Instead of a Moratorium

B. A New Gulf Permit for the Reef Fish and Coastal Migratory Pelagics Fisheries

C. Initial Eligibility Requirements for Permits and/or Endorsements

D. Annual Permit and Endorsement Transfers During the Moratorium

E. Vessel Passenger Restriction on Permit Transfers

F. Annual Reissuance of Permits Not Renewed (or Permanently Revoked)

G. Appeals Process under the Moratorium

H. Reporting Requirements to Maintain the New Gulf Permit/Endorsement

The Alternatives included in the amendment were developed by the AP and the Council.

Copies of the agenda can be obtained by calling 813-228-2815.

Although other non-emergency issues not on the agenda may come before the panels for discussion, in accordance with the Magnuson-Stevens Fishery Conservation and Management Act, those issues may not be the subject of formal action during these meetings. Actions of the panels will be restricted to those issues specifically identified in the agendas and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Anne Alford at the Council (see ADDRESSES) by February 22, 2001.

Dated: February 9, 2001.
Richard W. Surdi,
Acting Director, Office of Sustainable Fisheries, National Marine Fisheries Service.

[FR Doc. 01-3772 Filed 2-13-01; 8:45 am]

BILLING CODE 3510-22-S